FEDERAL COMMUNICATIONS COMMISSION

47 CFR Part 64

[WC Docket No. 17-97; FCC 21-15; FRS 17992]

Call Authentication Trust Anchor; Correction

AGENCY: Federal Communications Commission.

ACTION: Proposed rule; correction.

SUMMARY: This document corrects the comment due date for the Paperwork Reduction Act requirements of a proposed rule published in the Federal Register of February 17, 2021, regarding STIR/SHAKEN caller ID authentication. This correction clarifies that written comments on the Paperwork Reduction Act proposed information collection requirements must be submitted by the public, Office of Management and Budget (OMB), and other interested parties on or before 60 days after the date of this correction's publication.

DATES: June 1, 2021.

FOR FURTHER INFORMATION CONTACT: PRA@fcc.gov or contact Nicole Ongele at (202) 418-2991.

SUPPLEMENTARY INFORMATION:

Correction

In proposed rule FR Doc. 2021-03043, beginning on page 9894 in the issue of February 17, 2021, make the following correction in the Dates section. On page 9894 in the second column, the second sentence is corrected to read:

“Written comments on the Paperwork Reduction Act proposed information collection requirements must be submitted by the public, Office of Management and Budget (OMB), and other interested parties on or before June 1, 2021.”

Federal Communications Commission.
Marlene Dortch,
Secretary, Office of the Secretary.

[FR Doc. 2021-06451 Filed 3-30-21; 8:45 am]

BILLING CODE 6712-01-P